DEPARTMENT OF THE INTERIOR

National Park Service

[NPS-WASO-NAGPRA-21099: PPWOCRADN0-PCU00RP14.R50000]

Notice of Inventory Completion: Lake County Discovery Museum, Wauconda, IL

AGENCY: National Park Service, Interior.

ACTION: Notice.

SUMMARY: The Lake County Discovery Museum has completed an inventory of human remains and associated funerary objects in consultation with the appropriate Indian tribes or Native Hawaiian organizations, and has determined that there is no cultural affiliation between the human remains and associated funerary objects and any present-day Indian tribes. Representatives of any Indian tribe not identified in this notice that wish to request transfer of control of these human remains and associated funerary objects should submit a written request to the Lake County Discovery Museum. If no additional requestors come forward, transfer of control of the human remains to the Indian tribes or Native Hawaiian organizations stated in this notice may proceed.

DATES: Representatives of any Indian tribe or Native Hawaiian organization not identified in this notice that wish to request transfer of control of these human remains and associated funerary objects should submit a written request with information in support of the request to the Lake County Discovery Museum at the address in this notice by July 8, 2016.

ADDRESSES: Diana Dretske, Lake County Discovery Museum, 27277 North Forest Preserve Road, Wauconda, IL 60084, telephone (847) 968-3381, email ddretske@lcfpd.org.

SUPPLEMENTARY INFORMATION: Notice is here given in accordance with the Native American Graves Protection and Repatriation Act (NAGPRA), 25 U.S.C. 3003, of the completion of an inventory of human remains and associated funerary objects under the control of the Lake County Discovery Museum, Wauconda, IL. The human remains and associated funerary objects were removed from Lake County, IL, and possibly McHenry County, IL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Lake County Discovery Museum professional staff in consultation with representatives of the Assiniboine and Sioux Tribes of the Fort Peck Indian Reservation, Montana. The following tribes were invited to consult but did not respond to the invitation: Bad River Band of Lake Superior Tribe of Chippewa Indians of the Bad River Reservation, Wisconsin; Bay Mills Indian Community, Michigan; Chippewa Cree Indians of the Rocky Boy's Reservation, Montana (previously listed as the Chippewa-Cree Indians of the Rock Boy's Reservation, Montana); Citizen Potawatomi Nation, Oklahoma; Confederated Tribes of the Umatilla Indian Reservation (previously listed as the Confederated Tribes of the Umatilla Reservation, Oregon); Eastern Band of Cherokee Indians; Forest County Potawatomi Community, Wisconsin; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indian of the Lac du Flambeau Reservation of Wisconsin; Lac Vieux Desert Band of Lake Superior Chippewa Indians of Michigan; Match-e-be-nash-she-wish Band of Pottawatomi Indians of Michigan; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as the Huron Potawatomi, Inc.); Ottawa Tribe of Oklahoma; Pokagon Band of Potawatomi Indians, Michigan and Indiana; Prairie Band Potawatomi Nation (previously listed as the Prairie Band of Potawatomi Nation, Kansas); Red Cliff Band of Lake Superior Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; and the Turtle Mountain Band of Chippewa Indians of North Dakota. All tribes listed above are hereafter referred to as “The Consulted and Invited Tribes.”

History and Description of the Remains

In the 1950s or 1960s, human remains representing, at minimum, 17 individuals were found in an unknown location along Route 173, in Lake County, IL. The human remains were donated to the Lake County Discovery Museum around the same time. No known individuals were identified. No associated funerary objects are present.

In January and June 1962, human remains representing, at minimum, 11 individuals were discovered in a gravel quarry owned by Vulcan Materials Company, Consumers Division. The site was designated as Illinois Archaeology Site L-65, along the Des Plaines River, Lake County, IL. The burial site was “uncovered after workers for a gravel company had stripped away the top layer of ground. The final excavation was done largely by the staff of the Lake County Museum.” The human remains were taken to the museum by Robert Vogel. The human remains were identified as eight adults and 3 children. No known individuals were identified. The 2 associated funerary objects are the jaw and intact teeth of a horse, and a necklace of bear teeth, shells, and fossilized crinoid stem beads.

In July 1959, human remains representing, at minimum, one individual were removed from a site on private land in Lake County, IL. The Lake County Sheriff was called to the James Kleth home on Ackerman Road, Antioch, where John B. Draundt was digging on the south side of the house and discovered human remains. County officials determined the land was a Native American burial ground. In 1976, the Office of Sheriff stated that “these bones were turned over to Mr. Vogel, who was the museum director at the time.” No known individuals were identified. No associated funerary objects are present.

In the late 1950s or early 1960s, human remains representing, at minimum, four individuals were found in Newport Township, IL, and donated to the museum around the same time. The human remains were identified as three adults and one child. No known individuals were identified. The one associated funerary object is a rat skull.

At an unknown date, human remains representing, at minimum, one individual were removed from an unknown area believed to be in McHenry County, IL. No other information is available for the human remains. No known individual was identified. No associated funerary objects are present.

Determinations Made by the Lake County Discovery Museum

Officials of the Lake County Discovery Museum have determined that:

• Pursuant to 25 U.S.C. 3001(9), the human remains described in this notice are Native American based on catalogue records and collection information.

• Pursuant to 25 U.S.C. 3001(9), the human remains described in this notice represent the physical remains of 34 individuals of Native American ancestry.

• Pursuant to 25 U.S.C. 3001(3)(A), the three associated funerary objects described in this notice are reasonably believed to have been placed with or near individual human remains at the time of death or later as part of the death rite or ceremony.

• Pursuant to 25 U.S.C. 3001(2), a relationship of shared group identity cannot be reasonably traced between the Native American human remains and associated funerary objects, and any present-day Indian tribe.

• According to final judgments of the Indian Claims Commission or the Court of Federal Claims, the land from which the Native American human remains and associated funerary objects were removed is the aboriginal land of The Consulted and Invited Tribes.

• Treaties, Acts of Congress, or Executive Orders, indicate that the land from which the Native American human remains and associated funerary objects were removed is the aboriginal land of The Consulted and Invited Tribes.

• Pursuant to 43 CFR 10.11(c)(1), the disposition of the human remains and associated funerary objects may be to The Consulted and Invited Tribes.

Additional Requestors and Disposition

Representatives of any Indian tribe not identified in this notice that wish to request transfer of control of these human remains and associated funerary objects should submit a written request with information in support of the request to Diana Dretske, Lake County Discovery Museum, 27277 North Forest Preserve Road, Wauconda, IL 60084, telephone (847) 968-3381, email ddretske@lcfpd.org, by July 8, 2016. After that date, if no additional requestors have come forward, transfer of control of the human remains and associated funerary objects to The Consulted and Invited Tribes may proceed.

The Lake County Discovery Museum is responsible for notifying The Consulted and Invited Tribes that this notice has been published.

Dated: May 16, 2016.
Melanie O'Brien,
Manager, National NAGPRA Program.

[FR Doc. 2016-13591 Filed 6-7-16; 8:45 am]

BILLING CODE 4312-50-P